DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Protocol for Access to Tissue Specimen Samples from the National Marine Mammal Tissue Bank.

Form Number(s): None.

OMB Approval Number: 0648-0468.

Type of Request: Regular submission.

Burden Hours: 155.

Number of Respondents: 50.

Average Hours per Response: Applications and research reports, 2 hours; tissue bank submission forms, 45 minutes.

Needs and Uses: The current purpose of this collection of information is to enable National Oceanic and Atmospheric Administration (NOAA) to allow the scientific community the opportunity to request tissue specimen samples from the National Marine Mammal Tissue Bank (NMMTB). This information collection is being revised to also enable the Marine Mammal Health and Stranding Response Program (MMHSRP) of NOAA to assemble information on all specimens submitted to the National Biomonitoring Specimen Bank (Bank), which includes the NMMTB. These samples will be collected from marine mammals, sea turtles, sea birds, and other marine animals as needed by volunteers and researchers participating in the Program.

The specimen banking information sheets will ask for basic data such as species, date collected, condition of tissue, and biology of animal sampled. This information is essential for the analysis, comparison, and interpretation of submitted specimens.

Affected Public: Not-for-profit institutions; State, Local or Tribal Government; business or other for-profit organizations; individuals or households.

Frequency: Annually and on occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 13, 2008.
Gwellnar Banks,
Management Analyst, Office of the Chief Information Officer.

[FR Doc. E8-13816 Filed 6-18-08; 8:45 am]

BILLING CODE 3510-22-P